ENVIRONMENTAL PROTECTION AGENCY

[OPP-2005-0124; FRL-7721-9]

1,3-Dichloropropene Risk Assessment; Notice of Availability

AGENCY: Environmental Protection Agency (EPA).

ACTION: Notice.

SUMMARY: This notice announces the availability of EPA's human health risk assessment for the soil fumigant 1,3-Dichloropropene (1,3-D), which is commonly referred to as telone, and opens a public comment period on this document. Although 1,3-D has undergone reregistration and a Reregistration Eligibility Decision was published for 1,3-D in December 1998, EPA is concurrently assessing six soil fumigants to ensure that its risk assessment approaches are consistent, and to ensure that risk tradeoffs and economic outcomes can be adequately predicted in reaching risk management decisions for the five other soil fumigants. EPA has developed a human health risk assessment for 1,3-D and is seeking comment through a public participation process in order to make available current and accurate information on this pesticide. Using this approach, EPA expects to address risks of concern for the five other soil fumigants while maintaining key use benefits.

DATES: Comments, identified by docket identification (ID) number OPP-2005-0124, must be received on or before September 12, 2005.

ADDRESSES: Comments may be submitted electronically, by mail, or through hand delivery/courier. Follow the detailed instructions as provided in Unit I. of the SUPPLEMENTARY INFORMATION.

FOR FURTHER INFORMATION CONTACT: Diane Sherman, Special Review and Reregistration Division (7508C), Office of Pesticide Programs, Environmental Protection Agency, 1200 Pennsylvania Ave., NW., Washington, DC 20460-0001; telephone number: (703) 308-0128; fax number: (703) 305-8041; e-mail address: sherman.diane@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket ID number OPP-2005-0124. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2.Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and to Whom Do I Submit Comments?

You may submit comments electronically, by mail, or through hand delivery/courier. To ensure proper receipt by EPA, identify the appropriate docket ID number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket/, and follow the online instructions for submitting comments. Once in the system, select “search,” and then key in docket ID number OPP-2005-0124. The system is an “anonymous access” system, which means EPA will not know your identity, e-mail address, or other contact information unless you provide it in the body of your comment.

ii. E-mail. Comments may be sent by e-mail to opp-docket@epa.gov, Attention: Docket ID Number OPP-2005-0124. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Public Information and Records Integrity Branch (PIRIB) (7502C), Office of Pesticide Programs (OPP), Environmental Protection Agency, 1200 Pennsylvania Ave., NW., Washington, DC 20460-0001, Attention: Docket ID Number OPP-2005-0124.

3. By hand delivery or courier. Deliver your comments to: Public Information and Records Integrity Branch (PIRIB), Office of Pesticide Programs (OPP), Environmental Protection Agency, Rm. 119, Crystal Mall #2, 1801 S. Bell St., Arlington, VA, Attention: Docket ID Number OPP-20005-0124. Such deliveries are only accepted during the docket's normal hours of operation as identified in Unit I.B.1.

D. How Should I Submit CBI to the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket ID number in the subject line on the first page of your response. It would also be helpful if you provided the name, date, and Federal Register citation related to your comments.

II. Background

A. What Action is the Agency Taking?

EPA is making available the human health risk assessment for the soil fumigant 1,3-D, which is commonly known as telone. The Agency developed this risk assessment and is seeking comment through a public participation process in order to make available current and accurate information on 1,3-D for the soil fumigant assessments. Other soil fumigants are currently undergoing the full, six-phase public participation process that the Agency uses to involve the public in developing pesticide reregistration and tolerance reassessment decisions. Through these programs, EPA is ensuring that pesticides meet current standards under the Federal Insecticide, Fungicide, and Rodenticide Act (FIFRA) and the Federal Food, Drug, and Cosmetic Act (FFDCA), as amended by the Food Quality Protection Act of 1996 (FQPA).

A soil fumigant, 1,3-D is applied to control parasitic root-knot nematodes and certain pests and diseases in soil prior to the planting of a variety of food and feed crops including vegetable crops, field crops, fruit and nut crops, and nursery crops. 1,3-D is also registered for use on golf courses and there are proposed uses for turf farms and post-plant in established vineyards. 1,3-D is also a restricted use pesticide and as such can only be applied by certified applicators or those under the supervision of a certified applicator. End-use product formulations containing 1,3-D may be applied through drip irrigation or by injection below the soil surface either in rows or broadcast across an area.

1,3-D was deemed eligible for reregistration in December 1998. The volatility of 1,3-D in the environment and results of metabolism studies in plants assure that there is no reasonable expectation of finite residues to be incurred in/on any raw agricultural commodities when end-use product formulations containing 1,3-D are applied according to label directions. Therefore, this fumigant does not require food tolerances. EPA does not expect any need for additional risk mitigation for 1,3-D but has developed this risk assessment to ensure that risk tradeoffs and economic outcomes can be adequately predicted in reaching risk management decisions for the five other soil fumigants.

EPA is providing an opportunity, through this notice, for interested parties to provide comments and input on the Agency's human health risk assessment for 1,3-D. Such comments and input could address, for example, the availability of additional data to further refine the risk assessment or information about specific use practices for crops that are produced using 1,3-D. When providing information to the Agency you might consider providing pictures or video footage to help clarify your comment. The following information would be helpful to EPA in characterizing regional and crop differences in use practices and possible effects on potential:

• Crop.

• Fumigant use.

• Average acres grown per enterprise.

• Maximum acres fumigated per day.

• Percent of the acres grown that are fumigated.

• Typical application rate (pound active ingredient/acre (lb a.i./acre)).

• Minimum application rate used (lb a.i./acre) (for high pest pressure situations).

• Time of year that soil is fumigated.

• Fumigation cycle (every crop cycle, 1 time/year, 1 time/2 years).

• Target pests (by category or specific pests).

• Method of application (e.g., chemigation, soil injection, specific equipment used).

• Methods or actions taken to reduce emissions (polyethylene tarps or soil cap).

• Could high-density polyethylene (HDPE) or high barrier tarps be used on this crop?

• Time between treatment and next production activity (e.g., time until planting).

• Typical crops following the fumigated crop (only if they benefit from the fumigation).

• Regulatory restrictions in your area on this fumigant or an alternative fumigant (such as weather restrictions).

• Soil restrictions on this fumigant or an alternative fumigant.

• Any restrictions or concerns about minimum soil temperature, hilly terrain, etc.

• Best available alternative (another fumigant or strategy such as leaving land fallow, etc.).

• Could the use of different fumigants be alternated (e.g., metam sodium followed by 1,3-D)? Specify how.

• Yield or quality impacts that are likely to result from moving to best available alternative (i.e., change in commodity price or grade).

• Would moving to the next best alternative impact key market windows? How?

• Cost per acre of active ingredient.

• Cost per acre of other fumigation inputs (e.g., tarps and equipment).

• Is there a crop budget available for your area and crop?

• Do you know of any other contacts or other sources of information for this crop that could provide information on acreage, prices, pests, etc.?

• Are there non-chemical alternatives that can be used in place of fumigants? Describe use.

EPA seeks to achieve environmental justice, the fair treatment and meaningful involvement of all people, regardless of race, color, national origin, or income, in the development, implementation, and enforcement of environmental laws, regulations, and policies. To help address potential environmental justice issues, the Agency seeks information on any groups or segments of the population who, as a result of their location, cultural practices, or other factors, may have atypical, unusually high exposure to 1,3-D, compared to the general population.

EPA is applying the principles of public participation to all pesticides undergoing reregistration and tolerance reassessment. The Agency's Pesticide Tolerance Reassessment and Reregistration; Public Participation Process, published in the Federal Register of May 14, 2004 (69 FR 26819) (FRL-7357-9), explains that in conducting these programs, EPA is tailoring its public participation process to be commensurate with the level of risk, extent of use, complexity of issues, and degree of public concern associated with each pesticide. Although 1,3-D has undergone reregistration, the Agency plans to follow a similar public participation process for the human health risk assessment for 1,3-D to ensure that human health risk assessment approaches are consistent, and that risk management decisions for the five other soil fumigants consider the relative risks and benefits of each chemical. Using this approach, EPA expects to address risks of concern for the five other fumigants while maintaining key use benefits. If, at the conclusion of the soil fumigant assessment and risk management process, EPA determines that it is appropriate to modify its 1998 risk mitigation decision for 1,3-D considering the relative risks and benefits of the others, EPA may relax certain measures or add new ones.

Comments should be limited to issues raised within the risk assessment. Failure to comment on any such issues as part of this opportunity will not limit a commenter's opportunity to participate in any later notice and comment processes on this matter. All comments should be submitted using the methods in Unit I. of the SUPPLEMENTARY INFORMATION, and must be received by EPA on or before the closing date. Comments will become part of the Agency Docket for 1,3-D. Comments received after the close of the comment period will be marked “late.” EPA is not required to consider these late comments.

B. What is the Agency's Authority for Taking this Action?

Section 4(g)(2) of FIFRA as amended directs that, after submission of all data concerning a pesticide active ingredient,“the Administrator shall determine whether pesticides containing such active ingredient are eligible for reregistration,” before calling in product-specific data on individual end-use products and either reregistering products or taking other “appropriate regulatory action.”

1,3-D was deemed eligible for reregistration in December 1998. EPA has developed a human health risk assessment for 1,3-D in order to make available current and accurate information on this pesticide which will be discussed as EPA assesses risks and develops risk management decisions, including reregistration decisions, for five other soil fumigants.

List of Subjects

Environmental protection, Pesticides and pests.

Dated:June 29, 2005.
Debra Edwards,
Director, Special Review and Reregistration Division, Office of Pesticide Programs.

[FR Doc. 05-13378 Filed 7-12-05; 8:45 am]

BILLING CODE 6560-50-S